DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project, interchange improvement of Valley Boulevard at Interstate 605 and Temple Avenue in the City of Industry, Los Angeles County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 1, 2021. If the Federal law that authorizes judicial review of a claim provides a time period of less than 150 days for filing such a claim, then that short time period applies.

FOR FURTHER INFORMATION CONTACT: For Caltrans: Jason Roach, Senior Environmental Planner/Branch Chief, Caltrans Division of Environmental Planning, District 7, 100 South Main Street, Los Angeles, CA 90012. Office Hours: 8:00 a.m.-5:00 p.m., Pacific Standard Time, telephone (213) 310-2653 or email Jason.Roach@dot.ca.gov. For FHWA, contact David Tedrick at (916) 498-5024 or email david.tedrick@dot.gov.

SUPPLEMENTARY INFORMATION: Effective July 1, 2007, FHWA assigned, and Caltrans assumed, environmental responsibilities for this project pursuant to 23 U.S.C. 327. Notice is hereby given that Caltrans has taken final agency actions subject to 23 U.S.C. 139(l)(1) by issuing licenses, permits, and approvals for the following highway project in the State of California. Caltrans, in cooperation with Los Angeles County Metropolitan Transportation Authority (LA Metro), San Gabriel Valley Council of Governments (SGVCOG), Gateway Cities Council of Governments (GCCOG), Los Angeles County Department of Public Works (LACDPW), and City of Industry propose to improve mobility and relieve congestion, capacity constraints, and other related deficiencies on Interstate 605 (I-605) at the Valley Boulevard interchange including high accident rate locations, inadequate truck turn paths, nonstandard lane and shoulder widths along loop ramps, and noncompliant Americans with Disabilities Act (ADA) facilities. The actions by the Federal agencies, and the laws under which such actions were taken, are described in the Final Initial Study with Negative Declaration (ND)/Finding of No Significant Impact (FONSI) for the project, approved on April 7, 2021, and in other documents in Caltrans' project records. The ND/FONSI and other project records are available by contact Caltrans at the addresses provided above. The Caltrans ND/FONSI and other project records can be viewed and downloaded at the following Metro Early Action I-605 Valley Blvd. Interchange Improvement Project website.

This notice applies to all Federal agency decisions as of the issuance date of this notice and all laws under which such actions were taken, including but not limited to:

1. Council on Environmental Quality Regulations

2. National Environmental Policy Act of 1969, as amended, 42 U.S.C. 4321 et. seq.

3. Federal-Aid Highway Act of 1970, 23 U.S.C. 109

4. MAP-21, the Moving Ahead for Progress in the 21st Century Act (Pub. L. 112-141)

5. Clean Air Act Amendments of 1990 (CAAA)

6. Clean Water Act of 1977 and 1987

7. Federal Water Pollution Control Act of 1972 (see Clean Water Act of 1977 & 1987)

8. Paleontological Resources Preservation Act (16 U.S.C. 470aaa)

9. Historic Sites Act of 1935

10. Safe Drinking Water Act of 1944, as amended

11. Endangered Species Act of 1973

12. Executive Order 11990, Protection of Wetlands

13. Executive Order 13112, Invasive Species

14. Executive Order 13186, Migratory Birds

15. Fish and Wildlife Coordination Act of 1934, as amended

16. Migratory Bird Treaty Act

17. Department of Transportation Act of 1966, 49 U.S.C. 303

18. Energy Policy and Conservation Act of 1975 (42 U.S.C. Section 6201)

19. Energy Policy Act of 2005, 109th Congress H.R.6 (2005-2006)

20. Title VI of the Civil Rights Act of 1964, as amended

21. Executive Order 12898, Federal Actions to Address Environmental Justice and Low-Income Populations

22. Comprehensive Environmental Response

23. Compensation and Liability Act (CERCLA) of 1980

24. Resource Conservation and Recovery Act (RCRA) of 1976

(Catalog of Federal Domestic Assistance Program Number 20.205, Highway Planning and Construction. The regulations implementing Executive Order 12372 regarding intergovernmental consultation on Federal programs and activities apply to this program.)

Authority: 23 U.S.C. 139(l)(1).

Issued on: May 26, 2021.
Rodney Whitfield,
Director, Financial Services, Federal Highway Administration, California Division.

[FR Doc. 2021-11535 Filed 6-1-21; 8:45 am]

BILLING CODE 4910-RY-P